DEPARTMENT OF HEALTH AND HUMAN SERVICES

National Institutes of Health

Submission for OMB Review; 30-Day Comment Request; Generic Clearance for the Collection of Qualitative Feedback on Agency Service Delivery (National Institute Allergy and Infectious Diseases)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

FOR FURTHER INFORMATION CONTACT: To request more information on the proposed project or to obtain a copy of the data collection plans and instruments, contact: Sarah Hijaz, Health Science Policy Analyst, Office of Strategic Planning, Initiative Development and Analysis, 5601 Fishers Lane, Rockville, Maryland 20892 or call non-toll-free number (301) 761-7790 or email your request, including your address to: sarah.hijaz@ nih.gov.

SUPPLEMENTARY INFORMATION: This proposed information collection was previously published in the Federal Register on November 29, 2024 (89 FR 94750) and allowed 60 days for public comment. One public comment was received. The purpose of this notice is to allow an additional 30 days for public comment.

The National Institute of Allergy and Infectious Diseases (NIAID), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance for the Collection of Qualitative Feedback on Agency Service Delivery (NIAID), 0925-0668, Expiration Date 07/31/2025, EXTENSION, National Institute of Allergy and Infectious Diseases (NIAID).

Need and Use of Information Collection: There are no changes being requested for this submission. The proposed information collection activity provides a means to garner qualitative customer and stakeholder feedback in an efficient, timely manner, in accordance with the Administration's commitment to improving service delivery. By qualitative feedback we mean information that provides useful insights on perceptions and opinions but are not statistical surveys that yield quantitative results that can be generalized to the population of study. This feedback will provide information about the NIAID's customer or stakeholder perceptions, experiences and expectations, provide an early warning of issues with service, or focus attention on areas where communication, training or changes in operations might improve delivery of products or services. These collections will allow for ongoing, collaborative and actionable communications between the NIAID and its customers and stakeholders. It will also allow feedback to contribute directly to the improvement of program management.

OMB approval is requested for 3 years. There are no costs to respondents other than their time. The total estimated annualized burden hours over 3 years are 7,200 (2,400 per year).

Estimated Annualized Burden Hours
Type of collection | Number of respondents | Annual frequency per response | Hours per response | Total hours
Customer satisfaction surveys | 4,000 | 1 | 30/60 | 2,000
In-Depth Interviews (IDIs) or Small Discussion Groups | 20 | 1 | 90/60 | 30
Individual Brief Interviews | 40 | 1 | 15/60 | 10
Focus Groups | 30 | 1 | 2 | 60
Pilot testing surveys | 20 | 1 | 30/60 | 10
Conferences and Training Pre- and Post-surveys | 500 | 1 | 30/60 | 250
Website or Software Usability Tests | 20 | 1 | 2 | 40
Total | 4,630 | 4,630 |  | 2,400

Dated: June 4, 2025.
Brandie K. Taylor Bumgardner,
Project Clearance Liaison, National Institute of Allergy and Infectious Diseases, National Institutes of Health.

[FR Doc. 2025-10491 Filed 6-9-25; 8:45 am]

BILLING CODE 4140-01-P